DEPARTMENT OF COMMERCE

National Oceanic and Atmospheric Administration

[I.D. 090600A]

Taking and Importing Marine Mammals; Taking Marine Mammals Incidental to Construction and Operation of Offshore Oil and Gas Facilities in the Beaufort Sea

AGENCY: National Marine Fisheries Service (NMFS), National Oceanic and Atmospheric Administration (NOAA), Commerce.

ACTION: Notice of issuance of a letter of authorization.

SUMMARY: In accordance with the Marine Mammal Protection Act (MMPA), as amended, and implementing regulations, notification is hereby given that a letter of authorization (LOA) to take a small number of marine mammals incidental to construction and operation of offshore oil and gas facilities at the Northstar development in the Beaufort Sea off Alaska has been issued to BP Exploration (Alaska), Anchorage, AK (BPXA).

DATES: This LOA is effective from September 18, 2000, through November 30, 2001.

ADDRESSES: A copy of the application and LOA are available for review in the following offices: Office of Protected Resources, NMFS, 1315 East-West Highway, Silver Spring, MD 20910, and Western Alaska Field Office, NMFS, 701 C Street, Anchorage, AK 99513.

FOR FURTHER INFORMATION CONTACT: Kenneth R. Hollingshead (301) 713-2055, ext. 128, or Brad Smith (907) 271-5006.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term "taking" means to harass, hunt, capture, or kill or to attempt to harass, hunt, capture or kill marine mammals.

Permission may be granted for periods up to 5 years if NMFS finds, after notification and opportunity for public comment, that the taking will have a negligible impact on the species or stock(s) of marine mammals, will not have an unmitigable adverse impact on the availability of the species or stock(s) of marine mammals for subsistence uses, and if regulations are prescribed setting forth the permissible methods of taking and the requirements pertaining to the monitoring and reporting of such taking. Regulations governing the taking of marine mammals incidental to construction and operation of the offshore oil and gas facility at Northstar in the Beaufort Sea were published and made effective on May 25, 2000 (65 FR 34014), and remain in effect until May 25, 2005.

Summary of Request

On November 30, 1998 (64 FR 9965, March 1, 1999), NMFS received a request from BPXA for an incidental, small take exemption under section 101(a)(5)(A) of the MMPA to take marine mammals incidental to construction and operation of an offshore oil and gas facility at Northstar in state and Federal waters. Because of delays in construction during 1999, and in issuing a proposed rule on this matter, on October 1, 1999, BPXA updated its application to NMFS. On October 22, 1999 (64 FR 57010), NMFS published a notice of proposed rulemaking on BPXA’s application and invited interested persons to submit comments, information, and suggestions concerning the application and proposed rule. These comments were addressed during the promulgation of final rulemaking on this action, which was published on May 25, 2000 (65 FR 34014). A complete description of the activity, the level of taking of marine mammals, and other concerns can be found in this document.

Issuance of this LOA is based on findings, described in the preamble to the final rule, that the total takings by this activity will result in only small numbers of marine mammals being taken, have no more than a negligible impact on marine mammal stocks in the Beaufort Sea, and not have an unmitigable adverse impact on the availability of the affected marine mammal stocks for subsistence uses. In addition, NMFS finds that BPXA has met the requirements contained in the implementing regulations, including monitoring and reporting requirements.

Dated: September 18, 2000.
Donald R. Knowles,
Director, Office of Protected Resources, National Marine Fisheries Service.

[FR Doc. 00-24938 Filed 9-27-00; 8:45 am]

BILLING CODE 3510-22-S